DEPARTMENT OF AGRICULTURE

Cooperative State Research, Education, and Extension Service

Solicitation of Input From Stakeholders on Agricultural Research, Extension, and Education Grant Programs Administered by the Cooperative State Research, Education, and Extension Service

AGENCY: Cooperative State Research, Education, and Extension Service, USDA.

ACTION: Notice of listening session.

SUMMARY: Section 102(b) of the Agricultural Research, Extension, and Education Reform Act of 1998 (AREERA) (7 U.S.C. 7612) requires the Cooperative State Research, Education, and Extension Service (CSREES) in establishing priorities for agricultural research, extension, and education activities conducted or funded by CSREES to solicit and consider input and recommendations from persons who conduct or use agricultural research, extension, or education. As part of the Agency's ongoing stakeholder input processes, CSREES is soliciting input and comments on the effectiveness of existing family, consumer, and nutrition research, extension, and education programs administered by CSREES in meeting current and future challenges in the United States' food and agriculture system. As part of this effort, CSREES is planning to conduct a listening session in Kansas City, MO.

DATES AND ADDRESSES: The listening session will be held on Tuesday, October 8, 2002, from 8:30 a.m. to 4 p.m. at the Hyatt Regency Crown Center; 2345 McGee Street, Kansas City, MO 64108. Attendees must make their own hotel arrangements.

To aid participants in scheduling their attendance, the following schedule is anticipated for the listening session.

8:30 a.m.-9 a.m.—Introductory Remarks and Background.

9 a.m.-12 p.m.—Scheduled 5-Minute Comment Periods.

1 p.m.-4 p.m.—Scheduled 5-Minute Comment Periods.

FOR FURTHER INFORMATION CONTACT: Persons wishing to present oral comments at this meeting are requested to pre-register by contacting Cindy Zluticky at (816) 252-5051, by fax at (816) 252-5575 or by e-mail to zlutickyc@missouri.edu.

Written comments also may be submitted for the record by mailing to: CSREES Listening Session; University Outreach and Extension-Jackson County; 1507 South Nolan Road; Independence, Missouri 64055-1307. Please provide three copies of the comments. Comments also may be faxed or sent via e-mail to Cindy Zluticky.

Information gathered from the Listening Session will be available for review on the CSREES Web page (http://www.reeusda.gov).

SUPPLEMENTARY INFORMATION:

Purpose of This Listening Session

In previous listening sessions, CSREES has sought input on a broad array of the Agency's program activities. The purpose of this listening session is to allow CSREES partners and stakeholders an opportunity to provide comments on the effectiveness of the existing family and consumer economics, human development, housing, and nutrition research, extension, and education programs administered by the Agency through its portfolio of competitive, formula-funded, and targeted national initiative programs. CSREES is specifically seeking comments on programs such as, but not limited to, the Hatch Act and Smith-Lever Act formula programs, the Expanded Food and Nutrition Education Program, the Children, Youth, and Families at Risk Program, and the National Research Initiative Nutrition Program. Presenters are encouraged to identify areas of program strengths, gaps in current programs that need to be filled, future program directions, methods to integrate research and extension programs, and potential partnerships with Federal, State, local and private cooperative organizations.

Making Reservations To Attend This Listening Session

When making a reservation for a 5-minute oral comment period, participants should provide a title for their presentation. More time may be available in the comment session, depending on the number of people wishing to make a presentation. Reservations will be confirmed on a first-come, first-served basis. Although pre-registration is not required to attend the listening session, it is strongly recommended to ensure that adequate accommodations are available. Participants who require a sign language interpreter or other special accommodations should contact Cindy Zluticky as directed above.

Background on Listening Sessions and CSREES Programs

Section 102(b) of AREERA (7 U.S.C. 7612) requires that CSREES, in establishing priorities for agricultural research, extension, and education activities conducted or funded by CSREES, solicit and consider input and recommendations from persons who conduct or use agricultural research, extension, or education. As part of this ongoing effort, CSREES conducts listening sessions to solicit input and comments on the effectiveness of the existing agricultural research, education and extension programs (such as the programs listed above) administered by CSREES in meeting current and future challenges in the food and agricultural sciences.

Section 1402 of the National Agricultural Research, Extension, and Teaching Policy Act of 1977 (NARETPA), 7 U.S.C. 3101, specifies that the purposes of agricultural research, extension, and education are to (1) enhance the competitiveness of the United States agriculture and food industry in an increasingly competitive world environment; (2) increase the long-term productivity of the United States agriculture and food industry while maintaining and enhancing the natural resource base on which rural America and the United States agricultural economy depend; (3) develop new uses and new products for agricultural commodities, such as alternative fuels, and develop new crops; (4) support agricultural research and extension to promote economic opportunity in rural communities and to meet the increasing demand for information and technology transfer throughout the United States agriculture industry; (5) improve risk management in the United States agriculture industry; (6) improve the safe production and processing of, and adding of value to, United States food and fiber resources using methods that maintain the balance between yield and environmental soundness; (7) support higher education in agriculture to give the next generation of Americans the knowledge, technology, and applications necessary to enhance the competitiveness of United States agriculture; and (8) maintain an adequate, nutritious, and safe supply of food to meet human nutritional needs and requirements.

Section 1404 of NARETPA, 7 U.S.C. 3103, defines “Food and Agricultural Sciences” as meaning basic, applied, and developmental research, extension, and teaching activities in food and fiber, agricultural, renewable natural resources, forestry, and physical and social sciences, including activities relating to the following: (1) Animal health, production, and well-being, (2) Plant health and production, (3) Animal and plant germplasm collection and preservation, (4) Aquaculture, (5) Food safety, (6) Soil and water conservation and improvement, (7) Forestry, horticulture, and range management, (8) Nutritional sciences and promotion, (9) Farm enhancement, including financial management, input efficiency, and profitability, (10) Home economics, (11) Rural human ecology, (12) Youth development and agricultural education, including 4-H clubs, (13) Expansion of domestic and international markets for agricultural commodities and products, including agricultural trade barrier identification and analysis, (14) Information management and technology transfer related to agriculture, (15) Biotechnology related to agriculture, and (16) The processing, distributing, marketing, and utilization of food and agricultural products.

CSREES currently supports agricultural research, extension and education activities through a broad array of programs which includes both formula funded and competitively awarded grant programs. The formula funded programs include the agricultural research programs authorized under the Hatch Act (7 U.S.C. 361a et seq.) for the State Agricultural Experiment Stations; section 1445 of NARETPA (7 U.S.C. 3222) for the 1890 Land-Grant Institutions including Tuskegee University and West Virginia State College; the McIntire-Stennis Cooperative Forestry Act (16 U.S.C. 582a et seq.); and section 1433 of NARETPA (7 U.S.C. 3195) for the Animal Health and Disease Research program. The agricultural extension programs are funded under section 3 of the Smith-Lever Act (7 U.S.C. 343) for the cooperative extension services at the 1862 Land-Grant Institutions; section 3(d) of the Smith-Lever Act (7 U.S.C. 343(d)) for targeted, national programs; and section 1444 of NARETPA (7 U.S.C. 3221) for the 1890 Land-Grant Institutions including Tuskegee University and West Virginia State College. Section 534(a) of the Equity in Educational Land-Grant Status Act of 1994 (7 U.S.C. 301 note) authorizes funding for the 1994 Institutions to strengthen their teaching programs in food and agricultural sciences.

The CSREES competitive grant programs include the National Research Initiative authorized under section 2(b) of the Competitive, Special, and Facilities Research Grant Act (7 U.S.C. 450i); the Initiative for Future Agriculture and Food Systems authorized under section 401 of AREERA (7 U.S.C. 7621); the Integrated Research, Education, and Extension Competitive Grants Program authorized under section 406 of AREERA (7 U.S.C. 7626); the Food and Agricultural Sciences National Needs Graduate Fellowship Grants Program authorized under section 1417(b)(6) of NARETPA (7 U.S.C. 3152(b)(6)); the Higher Education Challenge Grants Program authorized under section 1417(b)(1) of NARETPA (7 U.S.C. 3152(b)(1)); the Secondary Agriculture Education Challenge Grants Program authorized under section 1417(j) of NARETPA (7 U.S.C. 3152(j)); and the Hispanic-Serving Institutions Education Grants Program authorized under section 1455 of NAREPTA (7 U.S.C. 3241). In addition, sections 535 and 536 of the Equity in Educational Land-Grant Status Act of 1994 (7 U.S.C. 301 note) authorize competitive capacity building and research grant programs for the 1994 Institutions. Further information about CSREES grant programs is available through the CSREES Web page at http://www.reeusda.gov as the above list of CSREES grant programs is not exhaustive.

A majority of the agricultural research, extension, and education activities funded by CSREES are conducted through the 1862 Land-Grant Institutions which were established under the First Morrill Act (7 U.S.C. 301 et seq.); the 1890 Land-Grant Institutions under the Second Morrill Act (7 U.S.C. 321 et seq.); and the 1994 Institutions under the Equity in Educational Land-Grant Status Act of 1994 (7 U.S.C. 301 note).

Done at Washington, DC, this 13th day of September, 2002.
Colien Hefferan,
Administrator, Cooperative State Research, Education, and Extension Service.

[FR Doc. 02-24012 Filed 9-18-02; 8:45 am]

BILLING CODE 3410-22-P